DEPARTMENT OF ENERGY

Federal Energy Regulatory Commission

[Project No. 4644-017]

GR Catalyst Two, LLC; Notice of Revised Procedural Schedule

Take notice that the schedule for processing the Dahowa Hydroelectric Project No. 4644 final license application has been updated. Subsequent revisions to the schedule may be made as appropriate.

Milestone | Target date
Issue Acceptance Letter | June 2026.
Issue Scoping Notice for comments | July 2026.
Issue Notice of Ready for Environmental Analysis | August 2026.

(Authority: 18 CFR 2.1)

Dated: December 11, 2025.
Carlos D. Clay,
Deputy Secretary.

[FR Doc. 2025-22943 Filed 12-15-25; 8:45 am]

BILLING CODE 6717-01-P